DEPARTMENT OF TRANSPORTATION

Federal Aviation Administration

14 CFR Part 39

[Docket No. FAA-2010-1286; Directorate Identifier 2010-CE-064-AD; Amendment 39-16563; AD 86-25-07 R1]

RIN 2120-AA64

Airworthiness Directives; ROLLADEN-SCHNEIDER Flugzeugbau GmbH Model LS6 Gliders

AGENCY: Federal Aviation Administration (FAA), DOT.

ACTION: Final rule; request for comments.

SUMMARY: We are rescinding an existing airworthiness directive (AD) for the products listed above. The existing AD resulted from mandatory continuing airworthiness information (MCAI) issued by an aviation authority of another country to identify and correct an unsafe condition on an aviation product. The MCAI describes the unsafe condition as:

During flights at speeds between 250 to 270 km/h (135 to 145 kts) aileron flutter occurred resulting in damage of control stick attachment.

Since issuance of that AD, we have determined that the AD is not applicable because the Model LS6 is not type certificated in the United States.

DATES: This AD is effective January 19, 2011.

We must receive comments on this AD by February 18, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Jim Rutherford, Aerospace Engineer, Small Airplane Directorate, FAA, 901 Locust, Room 301, Kansas City, Missouri 64106; phone: (816) 329-4165; fax: (816) 329-4090; e-mail: jim.rutherford@faa.gov.

SUPPLEMENTARY INFORMATION:

Discussion

In 1986, we issued AD 86-25-07, Amendment 39-5487 (51 FR 44901, December 15, 1986). That AD required actions intended to address an unsafe condition on the products listed above. Since we issued AD 86-25-07, we have determined that the AD is not applicable because the only version of the Model LS6 type certificated in the United States is the Model LS6-c. Since the Model LS6 is not type certificated in the United States, there are no airplanes affected by that AD. We have also determined that the unsafe condition does not exist in the Model LS6-c gliders.

FAA's Determination

We are issuing this AD rescission because we evaluated all the relevant information and determined the existing AD is not applicable to the Model LS6 glider, and the unsafe condition described previously is not likely to exist or develop in the Model LS6-c gliders type design.

FAA's Justification and Determination of the Effective Date

AD 86-25-07 is not applicable to the Model LS6 because it is not type certificated in the United States. Therefore, we find that notice and opportunity for prior public comment are unnecessary and that good cause exists for making this amendment effective in less than 30 days.

Comments Invited

Although this is a final rule that was not preceded by notice and an opportunity for public comment, we invite you to submit any written relevant data, views, or arguments regarding this AD. Send your comments to an address listed under the ADDRESSES section. Include the docket number FAA-2010-1286 and Directorate Identifier 2010-CE-064-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by rescinding AD 86-25-07, Amendment 39-5487 (51 FR 44901, December 15, 1986):

86-25-07 R1 ROLLADEN-SCHNEIDER Flugzeugbau GmbH: Amendment 39-16563; Docket No. FAA-2010-1286; Directorate Identifier 2010-CE-064-AD.

Effective Date

(a) This AD is effective January 19, 2011.

Affected ADs

(b) This AD rescinds AD 86-25-07.

Applicability

(c) This AD rescission applies to Model LS6 gliders, all serial numbers, that are certified in any category.

Subject

(d) Joint Aircraft System Component (JASC)/Air Transport Association (ATA) of America Code 27, Flight Controls.

Issued in Kansas City, Missouri, on December 21, 2010.
Earl Lawrence,
Manager, Small Airplane Directorate, Aircraft Certification Service.

[FR Doc. 2010-32798 Filed 1-3-11; 8:45 am]

BILLING CODE 4910-13-P